ENVIRONMENTAL PROTECTION AGENCY

40 CFR Part 52

[EPA-R03-OAR-2006-0607; FRL-8212-6]

Approval and Promulgation of Air Quality Implementation Plans; Maryland; State Implementation Plan Revision for American Cyanamid Company, Havre de Grace, MD

AGENCY: Environmental Protection Agency (EPA).

ACTION: Proposed rule.

SUMMARY: EPA is proposing to approve a State Implementation Plan (SIP) revision submitted by the State of Maryland. This revision pertains to the removal of an August 2, 1984 Secretarial Order (Order) from the Maryland SIP. The Order constituted a Plan for Compliance (PFC) and an alternative method of assessing compliance at an American Cyanamid Company (Company) facility located in Havre de Grace, Harford County, Maryland (the Facility). The Order allowed for certain volatile organic compound (VOC) emissions sources at the Facility to achieve compliance with emissions limits through averaging (or “bubbling”) of emissions over a 24-hour period. Removal of the Order from the SIP will remove the “bubbling” compliance option for these sources at the Facility. In lieu of “bubbling,” the sources must comply with the approved and more stringent Maryland SIP provisions for the control of VOC emissions, which do not allow averaging or “bubbling.” This action is being taken under the Clean Air Act (CAA or the Act).

DATES: Written comments must be received on or before September 22, 2006.

ADDRESSES: Submit your comments, identified by Docket ID Number EPA-R03-OAR-2006-0607 by one of the following methods:

A. http://www.regulations.gov. Follow the on-line instructions for submitting comments.

B. E-mail: morris.makeba@epa.gov.

C. Mail: EPA-R03-OAR-2006-0607, Makeba Morris, Chief, Air Quality Planning and Analysis Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2006-0607. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Neil Bigioni, (215) 814-2781, or by e-mail at bigioni.neil@epa.gov.

SUPPLEMENTARY INFORMATION: On May 17, 2006, the Maryland Department of the Environment submitted a revision to its SIP entitled “Removal of the 1984 American Cyanamid Company Secretarial Order from Maryland's State Implementation Plan.” The request was for the removal of a Secretarial Order (by Consent) currently incorporated into the Maryland SIP. EPA is proposing to approve Maryland's requested SIP revision removing the Order from the SIP.

I. Background

EPA published a final rule on May 16, 1990 (55 FR 20269), approving the Order issued to the Company's adhesive manufacturing facility in Havre de Grace, Maryland (the Facility), as a revision to the Maryland SIP. The Order provided the Company with a PFC and an alternative method of assessing compliance for certain installations located at the Facility by allowing the averaging or “bubbling” of the emissions of VOC over a 24-hour period. By allowing “bubbling” of VOC emissions the Company could over-control emissions at some units and under control at other units such that the overall emissions from the sources collectively would be the same as those that would be achieved utilizing traditional control strategies at each source. The VOC sources where “bubbling” was allowed at the Facility were components of the Facility's paper and fabric adhesive coating operation, and included Towers 2, 3, and 5 and the FM-1000 coater/dryer.

Since EPA's May 16, 1990 approval of the Order as a SIP revision the Facility has been acquired by Cytec Engineered Materials, Inc. (Cytec).

II. Summary of SIP Revision

EPA is proposing to approve this SIP revision submitted by the State of Maryland. The revision will remove the Order from the Maryland SIP. Removal of the Order from the SIP will subject the VOC emissions sources at the Facility that formerly subject to the “bubbling” provisions of the Order to the Maryland VOC regulations and limits codified at Code of Maryland Regulations (COMAR) 26.11.19.07. Those COMAR regulations are part of the Maryland SIP. (65 FR 2334, January 14, 2000). The materials submitted by Maryland in support of the SIP revision indicate that the Facility currently intends to comply with the SIP-approved VOC limits by reducing VOC emissions through use of a regenerative thermal oxidizer, as allowed by COMAR 26.11.19.02B(2)(b)(ii) and the Maryland SIP (68 FR 9012, February 27, 2003). This proposed SIP revision will remove the current ability for Cytec to comply with VOC emissions limits for the sources subject to the Order through averaging or “bubbling” of VOC emissions. The SIP-approved limits codified at COMAR 26.11.19.07C do not allow for compliance through averaging/”bubbling.” The applicable COMAR 26.11.19.07C limits of 2.9 pounds of VOC per gallon of coating as applied (minus water), are also more stringent than the emissions limit of 3.2 pounds of VOC per gallon of coating as applied (minus water) imposed by the Order.

III. Proposed Action

EPA is proposing to approve Maryland's SIP revision submitted May 27, 2006 to remove the August 2, 1984 Secretarial Order issued to American Cyanamid Company from the SIP. EPA is soliciting public comments on the issues discussed in this document. These comments will be considered before taking final action.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355 (May 22, 2001)). This action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal requirement, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule to remove the Secretarial Order for American Cyanamid from the Maryland SIP does not impose an information collection burden under the provisions of the Paperwork Reduction Act of 1995 (44 U.S.C. 3501 et seq.).

List of Subjects in 40 CFR Part 52

Environmental protection, Air pollution control, Ozone, Reporting and recordkeeping requirements, Volatile organic compounds.

Authority: 42 U.S.C. 7401 et seq.

Dated: August 16, 2006.
Donald S. Welsh,
Regional Administrator, Region III.

[FR Doc. E6-13952 Filed 8-22-06; 8:45 am]

BILLING CODE 6560-50-P